NUCLEAR REGULATORY COMMISSION

[Docket No. NRC-2014-0188]

Agency Information Collection Activities: Proposed Collection; Comment Request

AGENCY: Nuclear Regulatory Commission.

ACTION: Notice of pending NRC action to submit a generic information collection request to the Office of Management and Budget (OMB) and solicitation of public comment.

SUMMARY: The U.S. Nuclear Regulatory Commission (NRC) invites public comment about our intention to request the OMB's approval for a generic information collection that is summarized below. We are required to publish this notice in the Federal Register under the provisions of the Paperwork Reduction Act of 1995 (44 U.S.C. Chapter 35).

Information pertaining to the requirement to be submitted:

1. The title of the information collection: Reports Concerning Possible Non-Routine Emergency Generic Problems.

2. Current OMB approval number: 3150-0012.

3. How often the collection is required: On occasion.

4. Who is required or asked to report: Nuclear power reactor licensees, nonpower reactors, and materials applicants and licensees.

5. The number of annual respondents: 231.

6. The number of hours needed annually to complete the requirement or request: 83,100.

7. Abstract: The NRC is requesting approval authority to collect information concerning possible nonroutine generic problems which would require prompt action from the NRC to preclude potential threats to public health and safety. During the conduct of normal program activities, the NRC becomes aware of an emergent event or issue that may be identified in its licensing, inspection, and enforcement programs. In addition, reportable occurrences, or unusual events, equipment failures, construction problems, and issues discovered or raised during safety reviews are brought to the attention of the NRC through licensee reporting procedures and the safety review process. The emergent event or issue may present a situation in which the NRC does not have enough information to support regulatory decision making regarding an appropriate course of action to address the event or issue.

If the NRC determines that an event or issue may have or has the potential for an immediate impact upon public health, safety, common defense, and/or the environment, the agency will prepare a bulletin or other form of generic communication that requires licensees and/or permit holders to respond within a specified period with information that would support agency evaluation and regulatory decision making. The bulletin may request licensees and permit holders to conduct evaluations, perform tests, and provide specified information within a prescribed time frame.

Submit, by October 14, 2014, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied for a fee publicly-available documents, including the draft supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments submitted in writing or in electronic form will be made available for public inspection. Because your comments will not be edited to remove any identifying or contact information, the NRC cautions you against including any information in your submission that you do not want to be publicly-disclosed. Comments submitted should reference Docket No. NRC-2014-0188. You may submit your comments by any of the following methods: Electronic comments go to: http://www.regulations.gov and search for Docket No. NRC-2014-0188. Mail comments to the Acting NRC Clearance Officer, Kristen Benney (T-5 F50), U.S. Nuclear Regulatory Commission, Washington, DC 20555-0001.

Questions about the information collection requirements may be directed to the Acting NRC Clearance Officer, Kristen Benney (T-5 F50), U.S. Nuclear Regulatory Commission, Washington, DC 20555-0001, by telephone at 301-415-6355, or by email to INFOCOLLECTS.Resource@NRC.GOV.

Dated at Rockville, Maryland, this 7th day of August, 2014.
For the Nuclear Regulatory Commission.
Kristen Benney,
Acting NRC Clearance Officer, Office of Information Services.

[FR Doc. 2014-19016 Filed 8-11-14; 8:45 am]

BILLING CODE 7590-01-P